COMMODITY FUTURES TRADING COMMISSION

Sunshine Act Meeting

AGENCY HOLDING THE MEETING: Commodity Futures Trading Commission

TIME AND DATE: 11 a.m., Friday, August 25, 2000

PLACE: 1155 21st St., NW., Washington, DC, 9th Floor Conference Room

STATUS: Closed

MATTERS TO BE CONSIDERED: Surveillance Matters

CONTACT PERSON FOR MORE INFORMATION: Jean A. Webb, 202-418-5100.

Jean A. Webb,
Secretary of the Commission.

[FR Doc. 00-19496 Filed 7-28-00; 12:32 pm]

BILLING CODE 6351-01-M